COMMISSION ON CIVIL RIGHTS

Sunshine Act Meetings

AGENCY: United States Commission on Civil Rights.

ACTION: Notice of Commission public comment session, antisemitism on America's college and university campuses: current conditions and the Federal response.

DATES: Friday, February 20, 2026, 12:00 p.m. EST.

ADDRESSES: Meeting to take place in person and virtually and is open to the public.

U.S. Commission on Civil Rights, 1331 Pennsylvania Ave. NW, Suite 1150, Washington, DC 20425.

It will also be livestreamed on the Commission's YouTube page: https://www.youtube.com/user/USCCR/videos.

FOR FURTHER INFORMATION CONTACT: Joe Kim: 202-499-0263; publicaffairs@usccr.gov.

SUPPLEMENTARY INFORMATION: The U.S. Commission on Civil Rights will hold a public comment session on Friday, February 20, 2026, to investigate the increase in antisemitism on America's college and university campuses. The investigation will examine how institutions of higher education and the federal government responded to allegations of antisemitism on U.S. college and university campuses in violation of federal civil rights protections.

At this public comment session, the Commission will hear from impacted students, educators, university officials, and community members about their experiences with antisemitism on college campuses.

The web link to access CART (in English) on Friday, February 20, 2026, is https://www.streamtext.net/player?event=USCCR. Please note that CART is text-only translation that occurs in real time during the meeting and is not an exact transcript.

To request additional accommodations, persons with disabilities should email access@usccr.gov by Monday, February 16, 2026, indicating “accommodations” in the subject line.

Public Comment Session Agenda

I. Introductory Remarks: 12:00-12:15 p.m.

II. Public Comment Period: 12:15-2:15 p.m.

III. Closing Remarks: 2:15-2:30 p.m.

Call for Written Materials

In addition to the testimony collected on Friday, February 20, 2026, via public comment session, the Commission welcomes the submission of material for consideration as we prepare our report. Please submit such information to asbriefing@usccr.gov no later than March 20, 2026, or by mail to OCRE/Public Comments, ATTN: AS Briefing, U.S. Commission on Civil Rights, 1331 Pennsylvania Ave. NW, Suite 1150, Washington, DC 20425.

Dated: February 13, 2026.
David Mussatt,
Supervisory Chief, Regional Programs Unit.

[FR Doc. 2026-03180 Filed 2-13-26; 4:15 pm]

BILLING CODE 6335-01-P